GENERAL SERVICES ADMINISTRATION

[Notice-CECANF-2016-01; Docket No. 2016-0004; Sequence No. 1]

Commission To Eliminate Child Abuse and Neglect Fatalities; Commission To Eliminate Child Abuse and Neglect Fatalities; Announcement of Meeting

AGENCY: Commission To Eliminate Child Abuse and Neglect Fatalities, GSA.

ACTION: Meeting notice.

SUMMARY: The Commission to Eliminate Child Abuse and Neglect Fatalities (CECANF), a Federal Advisory Committee established by the Protect Our Kids Act of 2012, will hold conference calls open to the public on the following dates: Thursday, January 14, 2016 and Saturday, January 16, 2016.

DATES: The meeting on Thursday, January 14, 2016 will be held from 5:00 p.m. to 7:00 p.m., Eastern Standard Time (EST). The meeting on Saturday, January 16, 2016 will be held from 2:00 p.m. to 4:00 p.m., Eastern Standard Time (EST).

ADDRESSES: CECANF will convene these meetings via conference call. Submit comments identified by “Notice-CECANF-2016-01,” by either of the following methods:

• Regulations.gov: http://www.regulations.gov. Submit comments via the Federal eRulemaking portal by searching for “Notice-CECANF-2016-01.” Select the link “Comment Now” that corresponds with “Notice-CECANF-2016-01.” Follow the instructions provided on the screen. Please include your name, organization name (if any), and “Notice-CECANF-2016-01” on your attached document.

• Mail: U.S. General Services Administration, 1800 F Street NW., Room 7003D, Washington, DC 20405, Attention: Tom Hodnett (CD) for CECANF.

Instructions: Please submit comments only and cite “Notice-CECANF-2016-01” in all correspondence related to this notice. Comments received generally will be posted without change to http://www.regulations.gov, including any personal and/or business confidential information provided. To confirm receipt of your comment(s), please check http://www.regulations.gov, approximately two to three days after submission to verify posting (except allow 30 days for posting of comments submitted by mail).

FOR FURTHER INFORMATION CONTACT: Visit the CECANF Web site at https://eliminatechildabusefatalities.sites.usa.gov/ or contact Patricia Brincefield, Communications Director, at 202-818-9596, General Services Administration, 1800 F Street NW., Room 7003D, Washington, DC 20405, Attention: Tom Hodnett (CD) for CECANF.

SUPPLEMENTARY INFORMATION: Background: CECANF was established to develop a national strategy and recommendations for reducing fatalities resulting from child abuse and neglect.

Agenda: Commission members will deliberate on the final report.

Attendance at the Meetings: Individuals interested in participating by teleconference should dial 1-888-289-4573 and then enter 6966324#. Detailed meeting minutes will be posted within 90 days of the meeting. Members of the public will not have the opportunity to ask questions or otherwise participate in the meeting.

However, members of the public wishing to comment should follow the steps detailed under the heading ADDRESSES in this publication or contact us via the CECANF Web site at https://eliminatechildabusefatalities.sites.usa.gov/contact-us/.

The reason CECANF is providing less than 15 calendar days' notice for this meeting is because of the short timeframe allowed for Commissioners to hold a final deliberation on the draft report before its publication date.

Dated: January 5, 2016.
Karen White,
Executive Assistant.

[FR Doc. 2016-00343 Filed 1-8-16; 8:45 am]

BILLING CODE 6820-34-P